NUCLEAR REGULATORY COMMISSION

Advisory Committee on Reactor Safeguards; Revised Meeting Notice

The agenda for the 529th ACRS meeting, scheduled to be held on February 9-11, 2006, has been revised as noted below. Notice of this meeting was previously published in the Federal Register on Wednesday, January 25, 2006 (71 FR 4177).

The discussion of the topic on the Application of the TRACG Code for Analyzing ESBWR Stability scheduled to be held on Thursday, February 9, 2006 between 8:35 and 10:30 a.m. has been postponed to a future ACRS meeting as requested by the NRC staff. The discussion of the item on FERRET Reactor Vessel Fluence Methodology scheduled to be held on Friday, February 10, 2006 between 8:35 and 10 a.m. has been moved to Thursday, February 9, 2006, between 12:45 and 2:15 p.m. The times for discussion of other items previously published in the Federal Register have been adjusted as noted in the revised agenda to facilitate effective use of the Committee's time. A revised agenda is posted on the NRC Web site at http://www.nrc.gov/reading-rm/adams.html or http://www.nrc.gov/reading-rm/doc-collections/ (ACRS & ACNW Mtg schedules/agendas).

FOR FURTHER INFORMATION CONTACT: Mr. Sam Duraiswamy, ACRS, (Telephone: 301-415-7364), between 7:30 a.m. and 4:15 p.m., ET.

Dated: January 26, 2006.
Andrew L. Bates,
Advisory Committee Management Officer.

[FR Doc. E6-1308 Filed 1-31-06; 8:45 am]

BILLING CODE 7590-01-P